DEPARTMENT OF TRANSPORTATION

Federal Highway Administration

[Docket No. FHWA-2007-0030]

Agency Information Collection Activities: Notice of Request for Extension of Currently Approved Information Collection

AGENCY: Federal Highway Administration (FHWA), DOT.

ACTION: Notice of request for extension of currently approved information collection.

SUMMARY: The FHWA has forwarded the information collection request described in this notice to the Office of Management and Budget (OMB) for approval of an extension of a currently approved information collection. We published a Federal Register. Notice with a 60-day public comment period on this information collection on August 17, 2007. We are required to publish this notice in the Federal Register by the Paperwork Reduction Act of 1995.

DATES: Please submit comments by January 28, 2008.

ADDRESSES: You may send comments within 30 days to the Office of Information and Regulatory Affairs, Office of Management and Budget, 725 17th Street, NW., Washington, DC, 20503, or e-mail at oira_submission@omb.eop.gov, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-0030.

FOR FURTHER INFORMATION CONTACT: For information regarding Emergency Relief Funding Applications, contact Greg Wolf, 202-366-4655, Office of Program Administration, Federal Highway Administration, Department of Transportation, 1200 New Jersey Ave., SE., Washington, DC 20590. Office hours are from 7:30 a.m. to 4:30 p.m., Monday through Friday, except Federal holidays.

SUPPLEMENTARY INFORMATION: Title: Emergency Relief Funding Applications.

Background: Section 125 of Title 23 United States Code requires States to submit applications to the FHWA for emergency relief (ER) funds. The ER funds are established for the repair or reconstruction of Federal-aid highways and Federally-owned roads, which have suffered serious damage from natural disasters over a wide area or a catastrophic failure from an external cause. The information is needed by the FHWA to fulfill its statutory obligations regarding funding determinations for emergency work to repair damaged highway facilities. The requirements covering the FHWA ER program are contained in 23 CFR Part 668.

Respondents: 50 State Transportation Departments, the District of Columbia, the Commonwealth of Puerto Rico, the Commonwealth of the Northern Mariana Islands, and the Territories of Guam, the Virgin Islands and American Samoa.

Frequency: As required.

Estimated Average Burden per Response: The estimated burden to complete the application is 250 hours.

Estimated Total Annual Burden Hours: Approximately 7,500 hours annually.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: December 20, 2007.
James R. Kabel,
Chief, Management Programs and Analysis Division.

[FR Doc. E7-25131 Filed 12-27-07; 8:45 am]

BILLING CODE 4910-22-P